FEDERAL ENERGY REGULATORY COMMISSION

Sunshine Act Meeting Notice

March 11, 2010.

The following notice of meeting is published pursuant to section 3(a) of the government in the Sunshine Act (Pub. L. 94-409), 5 U.S.C. 552b:

Agency Holding Meeting: Federal Energy Regulatory Commission.

Date and Time: March 18, 2010, 10 a.m.

Place: Room 2C, 888 First Street, NE., Washington, DC 20426.

Status: Open.

Matters To Be Considered: Agenda, * Note—Items listed on the agenda may be deleted without further notice.

Contact Person For More Information: Kimberly D. Bose, Secretary, Telephone (202) 502-8400. For a recorded message listing items struck from or added to the meeting, call (202) 502-8627.

This is a list of matters to be considered by the Commission. It does not include a listing of all documents relevant to the items on the agenda. All public documents, however, may be viewed online at the Commission's Web site at http://www.ferc.gov using the eLibrary link, or may be examined in the Commission's Public Reference Room.

957th—Meeting; Regular Meeting, March 18, 2010, 10 a.m.
Item No. | Docket No. | Company
Administrative
A-1 | AD02-1-000 | Agency Administrative Matters.
A-2 | AD02-7-000 | Customer Matters, Reliability, Security and Market Operations.
Electric
E-1 | RM10-17-000 | Demand Response Compensation in Organized Wholesale Energy Markets.
| EL09-68-000 | PJM Interconnection, L.L.C.
E-2 | RM06-16-009 | Mandatory Reliability Standards for the Bulk Power System.
E-3 | RM06-16-010 | Mandatory Reliability Standards for the Bulk Power System.
E-4 | RM06-22-008 | Mandatory Reliability Standards for Critical Infrastructure Protection.
E-5 | RM08-13-000 | Transmission Relay Loadability Reliability Standard.
E-6 | RM09-13-000 | Time Error Correction Reliability Standard.
E-7 | RM09-15-000 | Version One Regional Reliability Standard for Resource and Demand Balancing.
E-8 | RM09-18-000 | Revision to Electric Reliability Organization Definition of Bulk Electric System.
E-9 | RM10-6-000 | Interpretation of Transmission Planning Reliability Standard.
E-10 | RR09-6-000 | North American Electric Reliability Corporation.
E-11 | EL10-22-000 | Tres Amigas LLC.
E-12 | ER10-396-000 | Tres Amigas LLC.
E-13 | EL07-39-004 | New York Independent System Operator, Inc.
| EL07-39-005
| ER08-695-003
| ER08-695-002
E-14 | ER09-1273-000 | Westar Energy, Inc.
E-15 | RM04-7-008 | Market-Based Rates for Wholesale Sales of Electric Energy, Capacity and Ancillary Services by Public Utilities.
E-16 | OMITTED
E-17 | ER10-722-000 | Pittsfield Generating Company, L.P. and Pawtucket Power Associates, L.P.
E-18 | EL00-95-238 | San Diego Gas & Electric Company v. Sellers of Energy and Ancillary Services into Markets Operated by the California Independent System Operator Corporation and California Power Exchange Corporation.
| EL00-98-222 | Investigation of Practices of the California Independent System Operator Corporation and the California Power Exchange Corporation.
| EL01-10-053 | Puget Sound Energy, Inc. v. Sellers of Energy and/or Capacity.
| IN03-10-054 | Investigation of Anomalous Bidding Behavior and Practices in Western Markets.
| PA02-2-070 | Fact-Finding Investigation into Possible Manipulation of Electric and Natural Gas Prices.
| EL03-137-018 | American Electric Power Service Corporation.
| EL03-180-047 | Enron Power Marketing, Inc. and Enron Energy Services, Inc.
| ER03-746-019 | California Independent System Operator Corporation.
| EL02-71-026 | State of California, ex rel. Bill Lockyer, Attorney General of the State of California v. British Columbia Power Exchange Corporation.
| EL03-144-005 | Cargill-Alliant, LLC.
| EL09-56-003 | People of the State of California, ex rel. Edmund G. Brown Jr., Attorney General of the State of California, Complainant v. Powerex Corp.
E-19 | ER09-745-001 | Baltimore Gas and Electric Company.
E-20 | EL00-95-239 | San Diego Gas & Electric Company v. Sellers of Energy and Ancillary Services into Markets Operated by the California Independent System Operator Corporation and California Power Exchange Corporation.
| EL00-98-223 | Investigation of Practices of the California Independent System Operator Corporation and the California Power Exchange Corporation.
| EL01-10-054 | Puget Sound Energy, Inc. v. Sellers of Energy and/or Capacity.
| IN03-10-055 | Investigation of Anomalous Bidding Behavior and Practices in Western Markets.
| PA02-2-071 | Fact-Finding Investigation into Possible Manipulation of Electric and Natural Gas Prices.
| EL03-137-019 | American Electric Power Service Corporation.
| EL03-180-048 | Enron Power Marketing, Inc. and Enron Energy Services, Inc.
| ER03-746-020 | California Independent System Operator Corporation.
| EL03-157-008 | Los Angeles Department of Water and Power.
E-21 | EL00-95-237 | San Diego Gas & Electric Company v. Sellers of Energy and Ancillary Services into Markets Operated by the California Independent System Operator Corporation and California Power Exchange Corporation.
| EL00-98-221 | Investigation of Practices of the California Independent System Operator Corporation and the California Power Exchange Corporation.
| EL01-10-052 | Puget Sound Energy, Inc. v. Sellers of Energy and/or Capacity.
| IN03-10-057 | Investigation of Anomalous Bidding Behavior and Practices in Western Markets.
| PA02-2-069 | Fact-Finding Investigation into Possible Manipulation of Electric and Natural Gas Prices.
| EL03-137-017 | American Electric Power Service Corporation.
| EL03-180-046 | Enron Power Marketing, Inc. and Enron Energy Services, Inc.
| ER03-746-018 | California Independent System Operator Corporation.
| EL02-71-025 | State of California, ex rel. Bill Lockyer.
| EL03-198-007 | PECO ENERGY Company.
| ER05-167-004 | California Power Exchange Corporation.
| ER07-861-002 | California Power Exchange Corporation.
E-22 | EL00-95-240 | San Diego Gas & Electric Company v. Sellers of Energy and Ancillary Services into Markets Operated by the California Independent System Operator Corporation and California Power Exchange Corporation.
| EL00-98-224 | Investigation of Practices of California Independent System Operator Corporation & California Power Exchange Corporation.
| EL01-10-055 | Puget Sound Energy, Inc. v. Sellers of Energy and/or Capacity in the Pacific Northwest.
| IN03-10-056 | Investigation of Anomalous Bidding Behavior and Practices in the Western Markets.
| PA02-2-072 | Fact-Finding Investigation into Possible Manipulation of Electric and Natural Gas Prices.
| ER03-746-021 | California Independent System Operator Corporation.
| EL02-71-027 | State of California, ex rel. Bill Lockyer, Attorney General of the State of California v. British Columbia Power Exchange Corporation.
| EL09-56-004 | People of the State of California, ex rel. Edmund G. Brown Jr., Attorney General of the State of California, Complainant v. Powerex Corp.
E-23 | RD10-3-000 | North American Electric Reliability Corporation.
E-24 | RM06-22-011 | Mandatory Reliability Standards for Critical Infrastructure Protection.
E-25 | QM10-3-000 | New York State Electric & Gas Corporation and Rochester Gas and Electric Corporation.
E-26 | OA10-4-000 | Evergreen Wind Power V, LLC.
|  | Evergreen Wind Power III, LLC.
|  | Stetson Wind II, LLC.
|  | Champlain Wind, LLC.
|  | Evergreen Gen Lead, LLC.
|  | Canandaigua Power Partners, LLC.
|  | Canandaigua Power Partners II, LLC.
| ER09-1549-000 | First Wind Energy Marketing, LLC.
E-27 | ER02-2001-014 | Electric Quarterly Reports.
| ER07-514-000 | G&G Energy, Inc.
| ER07-177-000 | NCSU Energy, Inc.
| ER98-4333-000 | Primary Power Marketing L.L.C.
| ER05-1020-000 | WASP Energy, LLC.
E-28 | ER09-1546-001 | ISO New England Inc. and New England Power Pool.
E-29 | OMITTED
E-30 | OMITTED
E-31 | RM09-23-000 | Revisions to Form, Procedures, and Criteria for Certification of Qualifying Facility Status for a Small Power Production or Cogeneration Facility.
E-32 | EL09-71-000 | Resale Power Group of Iowa and WPPI Energy.
E-33 | ER08-413-002 | Startrans IO, L.L.C.
Multi-Industry
M-1 | PL10-4-000 | Policy Statement on Penalty Guidelines.
Gas
G-1 | RM96-1-030 | Standards for Business Practices for Interstate.
| RM96-1-036 | Natural Gas Pipelines.
G-2 | RP99-480-026 | Texas Eastern Transmission, LP.
| RP99-480-027
| RP09-143-001
| RP09-143-002
G-3 | RP10-30-000 | Texas Eastern Transmission, LP.
G-4 | OMITTED
G-5 | RP09-995-001 | Sea Robin Pipeline Company, LLC.
Hydro
H-1 | P-13366-001 | City of Angoon, Alaska.
| P-13364-001 | Petersburg Municipal Power and Light.
| P-13363-001 | City and Borough of Wrangell, Alaska.
| P-12619-003 | Cascade Creek, LLC.
H-2 | P-382-076 | Southern California Edison Company.
Certificates
C-1 | CP09-36-002 | Southern Natural Gas Company.
| CP09-40-001 | Southeast Supply Header, LLC and Southern Natural Gas Company.
| AD10-3-000 | Accrual of Allowance for Funds Used During Construction.
C-2 | CP09-17-001 | Florida Gas Transmission Company, LLC.
| AC08-161-002
| AD10-3-000 | Accrual of Allowance for Funds Used During Constrution.
C-3 | CP10-4-000 | Gulfstream Natural Gas System, L.L.C.
C-4 | RM05-1-002 | Regulations Governing the Conduct of Open Seasons for Alaska Natural Gas Transmission Projects.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters but will not be telecast through the Capitol Connection service.

[FR Doc. 2010-5774 Filed 3-12-10; 11:15 am]

BILLING CODE 6717-01-P